DEPARTMENT OF COMMERCE

National Oceanic and Atmospheric Administration

Notice of Availability for Public Comments of the National Sea Grant Office

AGENCY: Office of Oceanic and Atmospheric Research (OAR), National Oceanic and Atmospheric Administration (NOAA), Department of Commerce (DOC).

ACTION: Notice of availability for public comments.

SUMMARY: NOAA has prepared a draft programmatic environmental assessment (PEA) for NOAA's proposal to fund aquaculture research and development projects through existing federal financial assistance award programs. We are making the programmatic environmental assessment available to the public for review and comment.

DATES: Written comments must be submitted on or before December 18, 2022.

ADDRESSES: The Draft PEA may be downloaded or viewed at: https://seagrant.noaa.gov/Our-Work/Aquaculture. You are encouraged to use the comment form spreadsheet provided on the same website to submit your comments. However, comments will also be accepted in word, pdf, or email body. Please submit public comments via email to oar.sg-feedback@noaa.gov with the subject line “Public Comment on Draft PEA Aquaculture Research and Development.” No business proprietary information, copyrighted information, or personally identifiable information should be submitted in response to this request. Please be aware that comments submitted may be posted on a federal website or otherwise released publicly. Clearly indicate which section, page number, and line number, if applicable, submitted comments pertain to. All comments must be provided in English. Please note that the U.S. Government will not pay for response preparation, or for the use of any information contained in the response.

FOR FURTHER INFORMATION CONTACT: Dr. Rebecca Briggs, Scientific Program Manager, National Sea Grant Office (Phone Number: (302) 927-2351) (Email:rebecca.briggs@noaa.gov).

SUPPLEMENTARY INFORMATION: This Programmatic Environmental Assessment (PEA) serves as a framework to analyze the potential impacts on the natural and human environment from aquaculture research and development projects funded by federal financial assistance award programs in the Office of Oceanic and Atmospheric Research (OAR) and the National Marine Fisheries Service (NMFS). The overall goal of NOAA's aquaculture research and development federal financial assistance award programs is to provide opportunities to public, private, and tribal entities to obtain scientific knowledge that will inform NOAA's regulatory and resource management decisions and foster innovative and sustainable approaches to aquaculture that will benefit NOAA's trust resources. NOAA proposes to further these efforts in domestic marine and freshwater aquaculture research and development in accordance with the statutory authorities described in this PEA. Existing federal financial assistance award programs for aquaculture research and development projects that are discussed in this PEA include: The National Sea Grant College Program (Sea Grant), the Small Business Innovation Research Program (SBIR) and programs administered by the Office of Aquaculture (OAQ).

Projects analyzed as part of this PEA are broadly described as falling under one of the following five main research and development categories: outreach, education, and planning; data analysis and social science research; laboratory and rearing science and research on finfish and shellfish; field research and assessments; and, shellfish aquaculture restoration. Aquaculture research and development federal awards are needed to gain scientific knowledge and develop a trained workforce to address critical issues including: supporting a healthy coastal economy; addressing the demand for domestic seafood products; and enhancing wild stock populations (for commercial purposes). The federal financial assistance award programs described provide a unique opportunity within NOAA to partner with external researchers and institutions, engage in private sector, tribal, and public collaborations, and facilitate aquaculture research and development to meet these needs. NOAA intends for this PEA to create efficiencies by establishing a framework that can be used for “tiering” when appropriately applied to future aquaculture research and development awards. As financial assistance awards are proposed, to the extent additional NEPA analysis is required, environmental review will rely on the analysis set forth in this PEA.

This document has been prepared in compliance with the National Environmental Policy Act of 1969 (NEPA), the 1978 Council on Environmental Quality (CEQ) Regulations (40 Code of Federal Regulations [CFR] 1500-1508), and NOAA policy and procedures (NOAA Administrative Order 216-6A (NAO 216-6A and its Companion Manual (CM)).

David Holst,
Chief Financial Officer and Administrative Officer, Office of Oceanic and Atmospheric Research, National Oceanic and Atmospheric Administration.

[FR Doc. 2022-24742 Filed 11-14-22; 8:45 am]

BILLING CODE 3510-KD-P